DEPARTMENT OF ENERGY

Federal Energy Regulatory Commission

[Docket No. RD23-6-000]

Commission Information Collection Activities Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on proposed revisions of the currently approved information collection, FERC-725A (Mandatory Reliability Standards for the Bulk-Power System) and FERC-725Z (Mandatory Reliability Standards: IRO Reliability Standards) as it affects information collection requirements associated with proposed on Reliability Standards IRO-010-5 and TOP-003-6.1. The 60-day notice comment period ended on February 12, 2024, with one comment received.

DATES: Comments on the collection of information are due May 2, 2024.

ADDRESSES: Send written comments on FERC-725A and 725Z to OMB through www.reginfo.gov/public/do/PRAMain. Attention: Federal Energy Regulatory Commission Desk Officer. Please identify the OMB Control Numbers 725A (1902-0244) and 725Z (1902-0276) in the subject line of your comments. Comments should be sent within 30 days of publication of this notice to www.reginfo.gov/public/do/PRAMain.

Please submit copies of your comments to the Commission. You may submit copies of your comments (identified by Docket No. RD23-6-000) by one of the following methods: Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection. FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, telephone at (202) 502-6362.

SUPPLEMENTARY INFORMATION:

Title: FERC-725A (Mandatory Reliability Standards for the Bulk-Power System) and FERC-725Z (Mandatory Reliability Standards: IRO Reliability Standards) as it affects information collection requirements associated with proposed on Reliability Standards IRO-010-5 and TOP-003-6.1.

OMB Control No.: FERC-725A (1902-0244) FERC-725Z (1902-0276).

Type of Request: Approval of FERC-725A and FERC-725Z information collection requirements associated with proposed on Reliability Standards IRO-010-5 and TOP-003-6.1.

Abstract: This Notice pertains to the FERC-725A and FERC-725Z information collection requirements. On September 21, 2023, the North American Electric Reliability Corporation (NERC) filed a petition (NERC Petition) seeking approval of proposed Reliability Standards IRO-010-5 (Reliability Coordinator Data and Information Specification and Collection), and TOP-003-6.1 (Transmission Operator and Balancing Authority Data and Information Specification and Collection), the associated Violation Risk Factors and Violation Severity Levels, and the proposed implementation plan including the retirement of the currently-effective Reliability Standards IRO-010-4 and TOP-003-5.

NERC states in its petition that it revised both standards so that the language is parallel in form and function and uses similar vernacular in describing the underlying requirements. The proposed revisions allow applicable entities to use available technologies, integrate new technologies, and define expectations for data and information exchange.¹ The modifications to these two standards originated through the second phase of NERC's Standards Efficiency Review (SER) to consolidate information/data exchange requirements.²

¹ NERC Petition at 13.

² See NERC, SER Phase 2 Recommendations Working Document, (Aug. 2021), https://www.nerc.com/pa/Stand/Standards%20Efficiency%20Review%20DL/SER_Phase_2_Recommendations_Working_Document_08062021.xlsx.

NERC's petition was noticed on September 26, 2023, with interventions, comments, and protests due on or before October 26, 2023.

NERC's uncontested filing is hereby approved pursuant to the relevant authority delegated to the Director, Office of Electric Reliability under 18 CFR 375.303(a)(2)(i) (2023).

The following tables were modified to use annualized totals due to the comments received.

Revised TOP-003-6.1, 725A in table below:

TOP-003-6.1—Transmission Operator and Balancing Authority Data and Information Specification and Collection Annual
Type of entity | Number of respondents ³ | Annual number of responses per respondent | Annual number of responses | Average burden hrs. & cost per response | Total annual burden hours & cost
| (1) | (2) | (1) * (2) = (3) | (4) ⁴ | (3) * (4) = (5)
FERC-725A, OMB Control No. 1902-0244
TOP | 166 | 1 | 166 | 80 hrs.; $5,429.60 | 13,280 hrs.; $901,313.60.
BA | 98 | 1 | 98 | 80 hrs.; $5,429.60 | 7,840 hrs.; $532,100.80.
TO | 323 | 1 | 323 | 8 hrs.; $542.96 | 2,584 hrs.; $175,376.08.
GOP | 1,002 | 1 | 1,002 | 8 hrs.; $542.96 | 8,016 hrs.; $544,045.92.
GO | 1,164 | 1 | 1,164 | 8 hrs.; $542.96 | 9,312 hrs.; $632,005.44.
DP | 301 | 1 | 301 | 8 hrs.; $542.96 | 2,408 hrs.; $163,430.96.
FERC-725A for TOP-003-6.1 Total Annual |  |  |  |  | 43,440 hrs.; $2,948,272.80.

Revised IRO-010-5, 725Z table:

³ Values represent unique U.S. entities as based on the NERC compliance registry information as of September 22, 2023.

⁴ The estimated hourly cost (salary plus benefits) is a combination based on the Bureau of Labor Statistics (BLS), as of 2023, for 75% of the average of an Electrical Engineer (17-2071) $77.29/hr., 77.29 × .75 = 57.9675 ($57.97-rounded) ($57.97/hour) and 25% of an Information and Record Clerk (43-4199) $39.58/hr., $39.58 × .25% = 9.895 ($9.90 rounded) ($9.90/hour), for a total ($57.97 + $9.90 = $67.87/hour).

IRO-010-5—Reliability Coordinator Data and Information Specification and Collection Annual
Type of entity | Number of respondents ⁵ | Annual number of responses per respondent | Annual number of responses | Average burden & cost per response | Total annual burden hours & total annual cost
| (1) | (2) | (1) * (2) = (3) | (4) ⁶ | (3) * (4) = (5)
FERC-725Z, OMB Control No. 1902-0276
RC | 12 | 1 | 12 | 80 hrs.; $5,429.60 | 960 hrs.; $65,155.20.
BA | 98 | 1 | 98 | 8 hrs.; $542.96 | 784 hrs.; $53,210.08.
GO | 1,164 | 1 | 1,164 | 8 hrs.; $542.96 | 9,312 hrs.; $632,005.44.
GOP | 1,002 | 1 | 1,002 | 8 hrs.; $542.96 | 8,016 hrs.; $544,045.92.
TOP | 166 | 1 | 166 | 8 hrs.; $542.96 | 1,328 hrs.; $90,131.36.
TO | 323 | 1 | 323 | 8 hrs.; $542.96 | 2,584 hrs.; $175,376.08.
DP | 301 | 1 | 301 | 8 hrs.; $542.96 | 2,408 hrs.; $163,430.96.
FERC-725Z for IRO-010-5 Annual |  |  |  |  | 25,392 hrs.; $1,723,355.04.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁵ Values represent unique US entities as based on the NERC compliance registry information as of September 22, 2023.

⁶ The estimated hourly cost (salary plus benefits) is a combination based on the Bureau of Labor Statistics (BLS), as of 2022, for 75% of the average of an Electrical Engineer (17-2071) $77.29/hr., 77.29 × .75 = 57.9675 ($57.97-rounded) ($57.97/hour) and 25% of an Information and Record Clerk (43-4199) $39.58/hr., $39.58 × .25% = 9.895 ($9.90 rounded) ($9.90/hour), for a total ($57.97 + $9.90 = $67.87/hour).

The one comment received offers that the estimates appear to capture burden estimates and costs of initial implementation only within years one and two and does not capture requirements beyond year three and forward. Staff reviewed the comment and updated the estimates to reflect the reporting burden to be an annual burden, instead of just for years one and two. Tables for 725A (TOP Reliability Standards) and 725Z (IRO Reliability Standards) have been updated to show the change with the original estimates, followed by the revised table for both collections.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 26, 2024.
Debbie-Anne A. Reese,
Acting Secretary.

[FR Doc. 2024-06869 Filed 4-1-24; 8:45 am]

BILLING CODE 6717-01-P